DEPARTMENT OF HEALTH AND HUMAN SERVICES

Centers for Disease Control and Prevention

Notice of Award of a Single Source Cooperative Agreement To Fund Ponce Health Sciences Foundation, Inc.

AGENCY: Centers for Disease Control and Prevention (CDC), Department of Health and Human Services (HHS).

ACTION: Notice.

SUMMARY: The Centers for Disease Control and Prevention (CDC), located within the Department of Health and Human Services (HHS), announces the award of approximately $5,000,000, with an expected total funding of approximately $25,000,000 over a 5-year period, to Ponce Health Sciences Foundation, Inc. The award will support surveillance and research studies for endemic and emerging arboviruses in Puerto Rico.

DATES: The period for this award will be 09/01/2025 through 08/31/2030.

FOR FURTHER INFORMATION CONTACT: Gregory Anderson, MS, MPH, Scientific Review Officer, National Center for HIV, Viral Hepatitis, STD, and TB Prevention, Centers for Disease Control and Prevention, 1600 Clifton Road, NE, Mailstop H24-6, Atlanta, Georgia 30329-4027. Telephone: (404) 718-8833; Email: gca5@cdc.gov.

SUPPLEMENTARY INFORMATION: The single source award will strengthen an established research platform for arboviruses in hospital and community settings to identify emerging and endemic pathogens like dengue and Oropouche viruses, improve patient management, and evaluate prevention and control strategies. The core objectives include: 1) strengthen hospital surveillance of acute febrile illness (AFI); 2) maintain an AFI platform for conducting clinical research on special populations such as children and pregnant women; 3) maintain a community cohort to assess incidence and prevalence of arboviral infections and other AFIs, while also evaluate the effectiveness of vector control strategies; 4) strengthen the infrastructure for project data management and analysis; and 5) strengthen collaborations with the local government, community leaders, and other stakeholders to ensure continuity of the established program.

Ponce Health Sciences Foundation (PHSF), Inc. is in a unique position to conduct this work, as it is the only institution with the infrastructure, training, and established community trust to implement study objectives rapidly and effectively. It successfully implemented the Sentinel Enhanced Dengue Surveillance System (SEDSS) at the St. Luke's Episcopal Hospital (SLEH) in 2012 and Centro de Emergencia y Medicina Integrada (CEMI) in 2016 in Ponce, PR. PHSF successfully built and managed a community cohort of >3000 participants with annual visits and implemented interventions to evaluate efficacy of vector control techniques. PHSF has built long-standing relationships with the community stakeholders, which facilitates rapid implementation of public health programs and interventions. In addition, it has the following: an extensive historical database and well-developed data management systems in place to handle the large volume of data generated by this work; a well-trained workforce familiar with the local epidemiology, cultural context, and public health challenges; and laboratories equipped to process arbovirus samples quickly and efficiently, with validated protocols and established quality control measures.

Summary of the Award

Recipient: Ponce Health Sciences Foundation, Inc.

Purpose of the Award: The purpose of this award is to support surveillance and research studies for endemic and emerging arboviruses in Puerto Rico.

Amount of Award: $5,000,000 in Federal Fiscal Year (FFY) 2025 funds, with a total estimated $25,000,000 for the five-year period of performance, subject to availability of funds.

Authority: This program is authorized under Public Health Service Act, sections 301(a) (42 U.S.C. 241) and 317(k)(2) (42 U.S.C. 247b), as amended.

Period of Performance: 09/01/2025 through 08/31/2030.

Dated: December 23, 2024.
Terrance Perry,
Acting Director, Office of Grants Services, Centers for Disease Control and Prevention.

[FR Doc. 2024-31316 Filed 12-27-24; 8:45 am]

BILLING CODE 4163-18-P